DEPARTMENT OF THE INTERIOR

Bureau of Land Management

[CO930-05-926NQ-COQB1]

Correction to Notice of Availability of the Draft Alamosa River Watershed Restoration Master Plan

AGENCIES: Bureau of Land Management, Interior [Lead]; Fish and Wildlife Service, Interior [cooperating agency], Forest Service, Agriculture, [cooperating agency].

ACTION: Notice of correction.

SUMMARY: On Monday, April 18, 2005, the Bureau of Land Management published a Notice of Availability of the Draft Alamosa River Watershed Restoration Master Plan in the Federal Register [70 FR 20171]. The notice contains two errors in the DATES section. There will be no public meeting as mentioned in the previous notice and the 30 day comment period will end on June 2, 2005 instead of April 14, 2005 as the previous notice indicated.

FOR FURTHER INFORMATION CONTACT: Rob Robinson at (303) 239-3642.

Robert H. Robinson,
Summitville Trustee Council Representative, Division of Energy, Lands and Minerals, Colorado State Office, Bureau of Land Management.

[FR Doc. 05-8812 Filed 5-2-05; 8:45 am]

BILLING CODE 4310-JB-P